DEPARTMENT OF COMMERCE

National Oceanic and Atmospheric Administration

RIN 068-XA145

Caribbean Fishery Management Council; Public Meeting

AGENCY: National Marine Fisheries Service (NMFS), National Oceanic and Atmospheric Administration (NOAA), Commerce.

ACTION: Notice of a public meeting.

SUMMARY: The Caribbean Fishery Management Council (Council) in partnership with the Fisheries Leadership and Sustainability Forum (FLSF) will conduct an educational workshop, “Exploring Tools for Improving Management of Data Poor Stocks.” The intent of this workshop is to discuss tools that the region may find useful in advancing data collection and management of data poor stocks and provide a venue to discuss the best ways to move forward.

DATES: The workshop will be held Wednesday and Thursday, February 23-24, 2011.

ADDRESSES: The workshop will be held at La Concha Resort, 1077 Ashford Avenue, San Juan, Puerto Rico 00907; telephone: (787) 721-7500.

Council address: Caribbean Fishery Management Council, 268 Munoz Rivera Ave., Suite 1108, San Juan, Puerto Rico 00918; telephone: (787) 766-5926.

FOR FURTHER INFORMATION CONTACT: Miguel Rolon, Executive Director, Caribbean Fishery Management Council; telephone: (787) 766-5926.

SUPPLEMENTARY INFORMATION: The workshop will begin with participants' registration at 2 p.m. on Tuesday, February 22, 2011 and recess at 5:30 p.m. or when business is completed; reconvene at 8:30 a.m. on Wednesday, February 23, 2011 and recess at 5:45 p.m. or when business is completed; and, reconvene at 8:30 a.m. on Thursday, February 24, 2011 and recess at 5:45 p.m. or when business is completed. An agenda and briefing materials will be posted to the Council Web site (http://www.caribbeanfmc.com) as they become available.

The workshop will be an educational forum to discuss data collection and management for data poor stocks. The 2006 reauthorization of the Magnuson-Stevens Act (MSRA) requires the Council to establish annual catch limits (ACLs) for all managed stocks by 2011. For data poor stocks where scientific information is either lacking or insufficient, establishing ACLs is particularly challenging. Given the approaching deadlines for establishing ACLs and the recent work undertaken by the Southeast Fisheries Science Center (SEFSC) and Marine Resource Assessment Group (MRAG Americas) to develop recommendations on how the region could improve data collection, the Council concluded that an educational workshop dedicated to data poor issues would be beneficial for its members and partners.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aid should be directed to Diana Martino, (787) 766-5926, at least 5 days prior to the meeting date.

Dated: January 11, 2011.
Tracey L. Thompson,
Acting Director, Office of Sustainable Fisheries, National Marine Fisheries Service.

[FR Doc. 2011-718 Filed 1-13-11; 8:45 am]

BILLING CODE 3510-22-P